DEPARTMENT OF HEALTH AND HUMAN SERVICES

Health Resources and Services Administration

Council on Graduate Medical Education; Notice of Meeting

In accordance with section 10(a)(2) of the Federal Advisory Committee Act (Pub. L. 92-463), notice is hereby given of the following meeting:

Name: Council on Graduate Medical Education (COGME).

Dates and Times: September 17, 2003, 8 a.m.-4:45 p.m., September 18, 2003, 8 a.m.-3 p.m.

Place: Holiday Inn Select, Versailles 1, 8120 Wisconsin Avenue, Bethesda, MD 20814.

Status: The meeting will be open to the public.

Agenda: The agenda for September 17 will include: Welcome and opening comments from the Chair of COGME and staff of the Health Resources and Services Administration. In the morning there will be a series of speakers on topics covering the physician workforce, including “Managed Care Staffing Patterns,” “Small Area Variations,” and the “Impact of an Aging Society on Physician Workforce Requirements.” There will also be presentations on the “Impact of Residency Duty Hours Restrictions-Cost and Structural Adaptations.”

In the afternoon there will be a luncheon presentation on the “University of Michigan Supreme Court Case and its Impact for Medical School Diversity Initiatives.” Lunch will not be provided to the general public. Later that afternoon, the Council's three workgroups—Diversity, Graduate Medical Education Financing, and Physician Workforce—will convene.

The agenda for September 18 will include a presentation by the Gallup Organization regarding the results of the General Services Administration's Stakeholder Engagement Survey of the Council; discussion of the survey by the Council will follow. The Council's three workgroup chairs will give their reports. There will be a report on development of a framework for revised COGME physician workforce goals, with subsequent discussion of Council recommendations covering the physician workforce and graduate medical education.

Agenda items are subject to change as priorities dictate.

For Further Information Contact: Anyone requiring information regarding the meeting should contact Stanford M. Bastacky, D.M.D., M.H.S.A., Acting Executive Secretary, Council on Graduate Medical Education, Division of Medicine and Dentistry, Bureau of Health Professions, Room 9A-27, Parklawn Building, 5600 Fishers Lane, Rockville, Maryland 20857, Telephone (301) 443-6326.

Dated: July 22, 2003.
Jane M. Harrison,
Director, Division of Policy Review and Coordination.

[FR Doc. 03-19074 Filed 7-25-03; 8:45 am]

BILLING CODE 4165-15-P